DEPARTMENT OF THE INTERIOR

National Park Service

[NPS-WASO-NAGPRA-14040; PPWOCRADN0-PCU00RP14.R50000]

Notice of Inventory Completion: University of Michigan, Ann Arbor, MI

AGENCY: National Park Service, Interior.

ACTION: Notice.

SUMMARY: The University of Michigan has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Michigan. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Michigan at the address in this notice by December 2, 2013.

ADDRESSES: Dr. Ben Secunda, NAGPRA Project Manager, University of Michigan, Office of the Vice President for Research, 4080 Fleming Building, 503 Thompson St., Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains under the control of the University of Michigan, Ann Arbor, MI. The human remains were removed from Saginaw County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Michigan Museum of Anthropology professional staff in consultation with representatives of the Bay Mills Indian Community, Michigan; Chippewa-Cree Indians of the Rocky Boy's Reservation, Montana; Grand Traverse Band of Ottawa and Chippewa Indians, Michigan; Keweenaw Bay Indian Community, Michigan; Lac Vieux Desert Band of Lake Superior Chippewa Indians of Michigan; Saginaw Chippewa Indian Tribe of Michigan; and the Sault Ste. Marie Tribe of Chippewa Indians, Michigan.

Additional requests for consultation were sent to the Bad River Band of the Lake Superior Tribe of Chippewa Indians of the Bad River Reservation, Wisconsin; Bois Forte Band (Nett Lake) of the Minnesota Chippewa Tribe, Minnesota; Fond du Lac Band of the Minnesota Chippewa Tribe, Minnesota; Grand Portage Band of the Minnesota Chippewa Tribe, Minnesota; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Sokaogon Chippewa Community, Wisconsin; St. Croix Chippewa Indians of Wisconsin; Turtle Mountain Band of Chippewa Indians of North Dakota; and the White Earth Band of the Minnesota Chippewa Tribe, Minnesota.

Hereafter, all tribes listed in this section are referred to as “The Tribes.”

History and Description of the Remains

On an unknown date between 1915 and 1950, human remains representing, at minimum, 5 individuals were removed from the Green Point site (20SA1) in Saginaw County, MI. An amateur archeologist collected the commingled remains of five adults from the surface of the ground and donated them to the University of Michigan Museum of Anthropology (UMMA). One cranium shows evidence of cradle boarding. No date or time period for the human remains could be established. No known individuals were identified. No associated funerary objects are present.

On an unknown date in the 1930s, human remains representing, at minimum, 1 individual were removed from the Vogelaar site (20SA330) in Saginaw County, MI. An amateur archeologist collected the remains of an infant from the surface of the ground as part of an archeological survey in a plowed agricultural field. He donated the human remains to the UMMA in 1978. During the 1960s, archaeologists from the UMMA conducted excavations in the area of this site and found evidence of a Native American habitation area, but no human remains were discovered. The infant's remains are believed to be associated with the habitation area. The human remains are believed to date to the Middle-to-Late Woodland Period (300 B.C.-1400 A.D.) based on diagnostic artifacts collected from the associated habitation area. No known individuals were identified. No associated funerary objects are present.

On an unknown date between 1915 and 1950, human remains representing, at minimum, 1 individual were removed from the Cavanaugh site (20SA19) in Saginaw County, MI. An amateur archeologist collected the remains of one adult from the surface of the ground near Gratiot Road and donated them to the UMMA in 1957. No date or time period for the human remains could be established. No known individuals were identified. No associated funerary objects are present.

On an unknown date between 1915 and 1950, human remains representing, at minimum, 1 individual, were removed from the Mound Hill site (20SA26) in Saginaw County, MI. An amateur archeologist collected an adult foot phalanx from the surface of the ground. On an unknown date between 1950 and November 13, 1990, these human remains were donated to the UMMA. The human remains date to the Pre-Contact Period (9150 B.C.-1640 A.D.) based on documentation of a mound at the site. No known individuals were identified. No associated funerary objects are present.

On an unknown date prior to 1941, human remains representing, at minimum, 1 individual were removed from the Fisher site (20SA29) in Saginaw County, MI. A local resident collected the remains of one adult from the surface at a location in Bridgeport Township. The human remains were given to an amateur archeologist in 1950, who subsequently donated them to the UMMA. No date or time period for the human remains could be established. No known individuals were identified. No associated funerary objects are present.

In 1913, human remains representing, at minimum, 1 individual were removed from the Huron Valley Cemetery site (20SA36) in Saginaw County, MI. A local farmer and his sons collected the remains of a middle-aged female from the surface of the ground in one of their agricultural fields somewhere near the Cass River. They gave the human remains to an amateur archeologist who subsequently donated them to the UMMA in 1932. A projectile point was found embedded on the anterior blade of the female's right ilium. The projectile point is still present and will be kept with the human remains, but it is not believed to be an associated funerary object. The human remains date to the Late Woodland Period (500-1400 A.D.) based on the projectile point. No known individuals were identified. No associated funerary objects are present.

On an unknown date between 1915 and 1950, human remains representing, at minimum, 1 individual were removed from the Letterman site (20SA41) in Saginaw County, MI. An amateur archaeologist collected the remains of one adult from the surface of the ground near the Cass River and donated them to the UMMA. No date or time period for the human remains could be established. No known individuals were identified. No associated funerary objects are present.

On an unknown date between 1915 and 1950, human remains representing, at minimum, 1 individual were removed from the Sand Ridge site (20SA69) in Saginaw County, MI. An amateur archeologist collected the remains of one adult (probably female) from the surface of the ground near the Pere Marquette Railroad and donated them to the UMMA. Grave looters were known to have visited the area frequently. The human remains date to the Pre-Contact Period (9150 B.C.-1400 A.D.) based on diagnostic artifacts that are not in the UMMA's collections, but are known to have come from the site. No known individuals were identified. No associated funerary objects are present.

On an unknown date in the 1920s, human remains representing, at minimum, 1 individual was removed from the Dead Creek site (20SA34) in Saginaw County, MI. An amateur archeologist collected the remains of one adult on the surface near Dead Creek in Frankenmuth Township and donated them to the UMMA in 1932. He reported finding evidence of a Native American village in the vicinity, also located near Dead Creek. Researcher H.I. Smith also reported a Pre-Contact Period cemetery, designated as the Simons Cemetery, located in the vicinity. The human remains date to the Pre-Contact Period (8500 B.C.-1400 A.D.) based on the Smith reference. No known individuals were identified. No associated funerary objects are present.

On an unknown date, human remains representing, at minimum, 4 individuals were removed from Near Saginaw site in Saginaw County, MI. The remains were found among the UMMA's collections in 1993 during NAGPRA compliance activities. The remains of two adults, one adolescent, and one child were determined to be Native American based on cranial morphology. No date or time period could be established. No known individuals were identified. No associated funerary objects are present.

On an unknown date in the 1930s, human remains representing, at minimum, 1 individual were removed from the Nason Hill site (20SA121) in Saginaw County, MI. An amateur archeologist collected the human remains, found among a mixture of surface assemblages with no archeological contexts, and donated them to the UMMA in 1978. No date or time period for the human remains could be established. No known individuals were identified. No associated funerary objects are present.

Determinations Made by the University of Michigan Museum of Anthropology

Officials of the University of Michigan Museum of Anthropology have determined that:

• Pursuant to 25 U.S.C. 3001(9), the human remains described in this notice are Native American based on cranial morphology, dental traits, accession documentation, and archeological context.

• Pursuant to 25 U.S.C. 3001(9), the human remains described in this notice represent the physical remains of 18 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Saginaw Chippewa Indian Tribe of Michigan.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian tribe or Native Hawaiian organization not identified in this notice that wish to request transfer of control of these human remains should submit a written request with information in support of the request to Dr. Ben Secunda, NAGPRA Project Manager, University of Michigan, Office of the Vice President for Research, 4080 Fleming Building, 503 Thompson St., Ann Arbor, MI 48109-1340, telephone (734) 647-9085, email bsecunda@umich.edu, by December 2, 2013. After that date, if no additional requestors have come forward, transfer of control of the human remains to The Tribes may proceed.

The University of Michigan is responsible for notifying The Tribes that this notice has been published.

Dated: September 16, 2013.
Sherry Hutt,
Manager, National NAGPRA Program.

[FR Doc. 2013-25983 Filed 10-30-13; 8:45 am]

BILLING CODE 4312-50-P